DEPARTMENT OF AGRICULTURE

Agricultural Marketing Service

[Doc. No. AMS-SC-18-0002; SC18-996-1]

Peanut Standards Board

AGENCY: Agricultural Marketing Service, USDA.

ACTION: Notice; request for nominations.

SUMMARY: The Farm Security and Rural Investment Act of 2002 (2002 Farm Bill) requires the Secretary of Agriculture (Secretary) to establish a Peanut Standards Board (Board) for the purpose of advising the Secretary on quality and handling standards for domestically produced and imported peanuts. The U.S. Department of Agriculture (USDA) is seeking nominations for individuals to be considered for selection as Board members for a term of office ending June 30, 2021.

DATES: Written nominations must be received on or before June 25, 2018.

ADDRESSES: Nominations should be sent to Steven W. Kauffman of the Southeast Marketing Field Office, Marketing Order and Agreement Division, Specialty Crops Program, AMS, USDA, 1124 1st Street South, Winter Haven, FL 33880; Telephone: (863) 324-3375; Fax: (863) 291-8614; Email: Steven.Kauffman@ams.usda.gov.

SUPPLEMENTARY INFORMATION: Section 1308 of the 2002 Farm Bill requires the Secretary establish and consult with the Board for the purpose of advising the Secretary regarding the establishment of quality and handling standards for all domestic and imported peanuts marketed in the United States.

The 2002 Farm Bill provides that the Board's makeup will include three producers and three peanut industry representatives from States specified in each of the following producing regions: Southeast (Alabama, Georgia, and Florida); Southwest (Texas, Oklahoma, and New Mexico); and Virginia/Carolina (Virginia and North Carolina). The Board consists of 18 members with representation equally divided between peanut producers and industry representatives. Each term of office is for a period of three years. The terms of office are staggered in order to replace one third of the Board each year.

The term “peanut industry representatives” includes, but is not limited to, representatives of shellers, manufacturers, buying points, marketing associations and marketing cooperatives. The 2002 Farm Bill exempted the appointment of the Board from the requirements of the Federal Advisory Committee Act.

USDA invites individuals, organizations, and groups affiliated with the categories listed above to nominate individuals for membership on the Board. All qualified nominees are forwarded for consideration as the Farm Bill does not provide for any voting. Appointees sought by this action will fill two positions in the Southeast region, two positions in the Southwest region, and two positions in the Virginia/Carolina region.

Nominees should complete an Advisory Committee or Research and Promotion Background Information form (AD-755) and submit it to Steven W. Kauffman at the address provided in the Addresses section above. Copies of this form may be obtained at the internet site http://www.ams.usda.gov/about-ams/facas-advisory-councils/peanut-board, or from the Southeast Marketing Field Office. USDA seeks a diverse group of members representing the peanut industry.

Equal opportunity practices will be followed in all appointments to the Board in accordance with USDA policies. To ensure that the recommendations of the Board have taken into account the needs of the diverse groups within the peanut industry, membership shall include, to the extent practicable, individuals with demonstrated abilities to represent minorities, women, persons with disabilities, and limited resource agriculture producers.

Authority: 7 U.S.C. 7958.

Dated: May 8, 2018.
Bruce Summers,
Acting Administrator, Agricultural Marketing Service.

[FR Doc. 2018-10104 Filed 5-10-18; 8:45 am]

BILLING CODE 3410-02-P